INTERNATIONAL TRADE COMMISSION

[Investigation No. 337-TA-1367]

Certain Electronic Devices and Semiconductor Devices Having Wireless Communication Capabilities and Components Thereof; Notice of a Commission Determination Not To Review an Initial Determination Granting a Motion To Terminate the Investigation as to ASUS Based on Settlement; Termination of the Investigation

AGENCY: U.S. International Trade Commission.

ACTION: Notice.

SUMMARY: Notice is hereby given that the U.S. International Trade Commission (“Commission”) has determined not to review an initial determination (“ID”) (Order No. 54) issued by the presiding administrative law judge (“ALJ”) granting an unopposed motion for termination of the investigation as to respondents ASUSTek Computer Inc. and ASUS Computer International (collectively, “ASUS”) based on settlement. The investigation is terminated in its entirety.

FOR FURTHER INFORMATION CONTACT: Cathy Chen, Esq., Office of the General Counsel, U.S. International Trade Commission, 500 E Street SW, Washington, DC 20436, telephone (202) 205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On July 27, 2023, the Commission instituted this investigation, based on a complaint filed by Bell Northern Research, LLC (“Complainant”) of Chicago, Illinois. 88 FR 48493-494 (Jul. 27, 2023). The complaint, as supplemented, alleged a violation of section 337 of the Tariff Act of 1930, as amended, 19 U.S.C. 1337, based upon the importation into the United States, the sale for importation, and the sale within the United States after importation of certain electronic devices and semiconductor devices having wireless communication capabilities and components thereof by way of infringement of certain claims of U.S. Patent Nos. 8,416,862 (“the '862 patent”); RE 48,629 (“the '629 patent”); and 7,564,914 (“the '914 patent”). Id. at 48493. The complaint also alleged a domestic industry exists. Id. The Commission's notice of investigation named eight (8) respondents: NXP Semiconductors, N.V. of Eindhoven, Netherlands; NXP USA, Inc. of Austin, Texas (collectively, “NXP”); Laird Connectivity, LLC (“Laird”) of Akron, Ohio; Qualcomm Technologies, Inc. (“Qualcomm”) of San Diego, California; MediaTek Inc. of Taipei, Taiwan; MediaTek USA Inc. of San Jose, California; ASUSTek Computer Inc. of Taipei, Taiwan; and ASUS Computer International of Fremont, California. Id. at 48494. The Office of Unfair Import Investigations (“OUII”) is also participating in this investigation. Id.

The investigation was terminated as to Qualcomm, Laird, and NXP and as to the '914 and '862 patents based on withdrawal of the complaint. See Order No. 12 (Sept. 1, 2023), unreviewed by Comm'n Notice (Sept. 22, 2023); Order No. 33 (Jan. 30, 2024), unreviewed by Comm'n Notice (Feb. 29, 2024); Order No. 37 (Feb. 27, 2024), unreviewed by Comm'n Notice (Mar. 25, 2024); Order No. 52 (May 1, 2024), unreviewed by Comm'n Notice (May 22, 2024).

Respondents MediaTek Inc. and MediaTek USA Inc. were terminated from the investigation based on settlement. See Order No. 53 (May 30, 2024), unreviewed by Comm'n Notice (Jun. 26, 2024).

On July 9, 2024, Complainant moved to terminate the investigation as to ASUS based on settlement. Complainant provided both confidential and public versions of the settlement and license agreement with its motion. OUII filed a response supporting the motion. No other party filed a response.

On July 16, 2024, the ALJ issued the subject ID (Order No. 54) granting the motion to terminate ASUS. The ID found the motion complies with the Commission Rules. ID at 1-2. The ID also observed that termination of this investigation as to ASUS based on settlement will not adversely affect the public interest. Id. at 2-3. No party filed a petition for review of the subject ID.

The Commission has determined not to review the subject ID. The last remaining respondents, ASUSTek Computer Inc. and ASUS Computer International, are terminated from the investigation based on settlement. The investigation is terminated in its entirety.

The Commission vote for this determination took place on August 6, 2024.

The authority for the Commission's determination is contained in section 337 of the Tariff Act of 1930, as amended (19 U.S.C. 1337), and in Part 210 of the Commission's Rules of Practice and Procedure (19 CFR part 210).

By order of the Commission.
Issued: August 6, 2024.
Sharon Bellamy,
Supervisory Hearings and Information Officer.

[FR Doc. 2024-17836 Filed 8-9-24; 8:45 am]

BILLING CODE 7020-02-P